DEPARTMENT OF COMMERCE

National Oceanic and Atmospheric Administration

RIN 0648-XC780

South Atlantic Fishery Management Council (Council); Public Meeting

AGENCY: National Marine Fisheries Service (NMFS), National Oceanic and Atmospheric Administration (NOAA), Commerce.

ACTION: Notice of a public hearing meeting.

SUMMARY: The South Atlantic Fishery Management Council (SAFMC) will hold a public hearing meeting pertaining to: Amendment 5 to the Dolphin Wahoo Fishery Management Plan (FMP); and the Generic Dealer Amendment.

DATES: The meeting will be held on August 15, 2013, from 4 p.m. to 6 p.m.

ADDRESSES: The meeting will be held at the Radisson Airport Hotel, 2081 Post Road, Warwick, RI 02886; telephone: (401) 739-3000.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion are as follows:

Public Hearing: Amendment 5 to the Dolphin Wahoo FMP

1. This amendment would revise the Allowable Biological Catches (ABCs), Annual Catch Limits (ACLs), Accountability Measures (AMs) and Annual Catch Targets (ACTs) for Dolphin and Wahoo that were implemented through the Comprehensive ACL Amendment.

2. Additionally, the amendment would revise management framework in the Dolphin Wahoo FMP as well as commercial trip limits for Dolphin.

3. Written comments may be directed to Bob Mahood, Executive Director, SAFMC (see Council address) or via email to: DWAmend5Comments@safmc.net. Comments will be accepted until 5 p.m. on August 18, 2013.

Public Hearing: Generic Dealer Amendment

1. The Generic Dealer Amendment would create a universal federal dealer permit that would be required to purchase all species managed by the SAFMC and the Gulf of Mexico Fishery Management Council (GMFMC).

2. The amendment also includes actions to create new requirements for dealer reporting (frequency and methods) as well as requirements to maintain dealer permits.

3. Written comments may be directed to Bob Mahood, Executive Director, SAFMC (see Council address) or via email to: JointDealerAmendPHComments@safmc.net. Comments will be accepted until 5 p.m. on August 18, 2013.

Council staff will present an overview of the amendments and will be available for informal discussions and to answer questions. Members of the public will also have the opportunity to go on record to record their comments on the public hearing topics for consideration by the SAFMC and GMFMC.

Special Accommodations

The meeting is physically accessible to people with disabilities. Requests for auxiliary aids should be directed to the council office (see ADDRESSES) 3 days prior to the meeting.

Note: The times and sequence specified in this agenda are subject to change.

Authority: 16 U.S.C. 1801 et seq.

Dated: July 23, 2013.
Tracey L. Thompson,
Acting Deputy Director, Office of Sustainable Fisheries, National Marine Fisheries Service.

[FR Doc. 2013-17959 Filed 7-25-13; 8:45 am]

BILLING CODE 3510-22-P